DEPARTMENT OF ENERGY

Federal Energy Regulatory Commission

[Docket No. ER97-1397-009, et al.]

South Jersey Energy Company, et al.; Electric Rate and Corporate Regulation Filings

February 7, 2001.

Take notice that the following filings have been made with the Commission:

1. South Jersey Energy Company

[Docket No. ER97-1397-009]

Take notice that on January 31, 2001, South Jersey Energy Company (SJEC), tendered for filing an updated market analysis in compliance with the Commission's February 28, 1997, Order. This filing is an update of the 1997 analysis submitted to the Commission in connection with the initial request for market-based rates by SJEC.

Comment date: February 22, 2001, in accordance with Standard Paragraph E at the end of this notice.

2. Allegheny Energy Service Corporation on behalf of Monongahela Power Company; The Potomac Edison Company andWest Penn Power Company; (Allegheny Power)

[Docket No. ER98-1466-001 and ER96-2673-011]

Take notice that on February 2, 2001, Allegheny Energy Service Corporation on behalf of Monongahela Power Company, The Potomac Edison Company and West Penn Power Company (Allegheny Power) and AYP Energy, Inc. made a filing to comply with the updated market power analysis requirements for Allegheny Power and AYP Energy, Inc. contained in Orders entered in Docket Nos. ER98-1466-000 and ER96-2673-000.

Copies of the filing have been provided to the Public Utilities Commission of Ohio, the Pennsylvania Public Utility Commission, the Maryland Public Service Commission, the Virginia State Corporation Commission, the West Virginia Public Service Commission, and all parties detailed within the official service lists for Docket Nos. ER98-1466-000 and ER96-2673-000.

Comment date: February 23, 2001, in accordance with Standard Paragraph E at the end of this notice.

3. Southern Company Services, Inc.

[Docket No. ER00-325-001]

Take notice that on February 1, 2001, Southern Company Services, Inc. (SCS), by and on behalf of Alabama Power Company, Georgia Power Company, Mississippi Power Company, Gulf Power Company and Savannah Electric and Power Company, tendered for filing amendments to unit power sales agreements with Florida Power and Light Company, Florida Power Corporation and Jacksonville Electric Authority, respectfully. The purpose of the amendments is to include the cost of sulfur dioxide emission allowances in the rates for Base and Normalized Energy under the unit sales agreements between SCS and each of the identified customers.

Comment date: February 22, 2001, in accordance with Standard Paragraph E at the end of this notice.

4. Exelon Generation Company, LLC

[Docket No. ER01-936-001]

Take notice that on February 1, 2001, Exelon Generation Company, LLC (Exelon Generation), amended its filing in the captioned docket of a Call Contract between Exelon Generation and PECO Energy Company (PECO Energy). The amendment redesignated the Call Contract as Exelon Generation's Rate Schedule FERC No. 18, and changed the requested effective date to January 12, 2001.

Copies of this filing were served on Exelon Generation, PJM, and the Pennsylvania Public Utility Commission.

Comment date: February 22, 2001, in accordance with Standard Paragraph E at the end of this notice.

5. Exelon Generation Company, LLC; PECO Energy Company; Commonwealth Edison Company

[Docket No. ER01-1147-000]

Take notice that on January 31, 2001, Exelon Generation Company, PECO Energy Company and Commonwealth Edison Company tendered for filing tariffs, rate schedules, and service agreements among themselves in compliance with FERC order accepting forms of such tariffs and rate schedules and in furtherance or their corporate restructurings.

Comment date: February 21, 2001, in accordance with Standard Paragraph E at the end of this notice.

6. Tenaska Power Services Company

[Docket No. ER01-1148-000]

Take notice that on January 31, 2001, Tenaska Power Services Company (Tenaska), tendered for filing a notice of withdrawal from the Northwest Regional Transmission Association.

Tenaska requests that such withdrawal become effective immediately.

Comment date: February 21, 2001, in accordance with Standard Paragraph E at the end of this notice.

7. Ameren Services Company

[Docket No. ER01-1149-000]

Take notice that on February 1, 2001, Ameren Services Company (ASC), tendered for filing an unexecuted Service Agreement for Network Integration Transmission Service between ASC and Rolla Municipal Utilities (Rolla) (the Agreement). ASC stated that the Agreement contains certain attachments that were inadvertently omitted from an unexecuted Service Agreement for Network Integration Transmission Service previously submitted on January 31, 2001, and asked that the Agreement be substituted for the previously-submitted Network Integration Transmission Service Agreement.

Comment date: February 21, 2001, in accordance with Standard Paragraph E at the end of this notice.

8. PacifiCorp Power Marketing, Inc.

[Docket No. ER01-1151-000]

Take notice that on February 1, 2001 PacifiCorp Power Marketing, Inc. (PPM), tendered for filing a Notice of Termination and Emergency Request for Waiver of the 60-day Notice Requirement with the Federal Energy Regulatory Commission with respect to a January 15, 1999 PX Participation Agreement and January 15, 1999 Meter Service Agreement with the California Power Exchange.

PPM requests waiver of the 60-day notice requirement to permit an effective date of January 31, 2001 or such other date as the Commission permits this termination to become effective.

PPM states that copies of this filing were served upon the California Power Exchange.

Comment date: February 21, 2001, in accordance with Standard Paragraph E at the end of this notice.

9. PacifiCorp.

[Docket No. ER01-1152-000]

Take notice that on February 1, 2001, PacifiCorp tendered for filing in accordance with 18 CFR 35 of the Commission's Rules and Regulations, a revised Exhibit C to the contract for Interconnections and Transmission Service between PacifiCorp and Western Area Power Administration (Western), Contract No. 14-06-400-2436, Supplement No. 2 (PacifiCorp's Rate Schedule FERC No. 262). The revisions modify the rates charged to Western for Block 2 transmission service.

PacifiCorp has requested an effective date of April 1, 2001.

Copies of this filing were supplied to the Washington Utilities and Transportation Commission and the Public Utility Commission of Oregon.

Comment date: February 21, 2001, in accordance with Standard Paragraph E at the end of this notice.

10. PacifiCorp.

[Docket No. ER01-1153-000]

Take notice that on February 1, 2001, PacifiCorp tendered for filing a Notice of Termination and Emergency Request for Waiver of the 60-day Notice Requirement with the Federal Energy Regulatory Commission with respect to a January 12, 1998 PX Participation Agreement and April 29, 1998 Meter Service Agreement with the California Power Exchange.

PacifiCorp requests waiver of the 60-day notice requirement to permit an effective date of January 31, 2001 or such other date as the Commission permits this termination to become effective.

PacifiCorp states that copies of this filing were served upon the California Power Exchange.

Comment date: February 21, 2001, in accordance with Standard Paragraph E at the end of this notice.

11. American Transmission Systems, Inc.

[Docket No. ER01-1154-000]

Take notice that on February 1, 2001, American Transmission Systems, Incorporated tendered for filing an Agreement for Construction, Operation, and Compensation of Delivery Points with The Village of Genoa. The Agreement provides for the replacement of Genoa's existing 12.47 kV distribution delivery point with two 69 kV transmission delivery points. This filing is made pursuant to Section 205 of the Federal Power Act.

Copies of this filing have been served on Genoa, American Municipal Power-Ohio, Inc., and the public utilities commissions of Ohio and Pennsylvania.

Comment date: February 21, 2001, in accordance with Standard Paragraph E at the end of this notice.

12. New England Power Pool

[Docket No. ER01-1155-000]

Take notice that on February 1, 2001, the New England Power Pool (NEPOOL), Participants Committee filed the Sixty-Ninth Agreement Amending the Restated NEPOOL Agreement (the Sixty-Ninth Agreement). The Sixty-Ninth Agreement proposes a new Section 2.4 to the New England Power Pool Billing Policy, which is contained in Attachment N to the NEPOOL Tariff, that facilitates the completion by ISO New England Inc. of adjustments to previously issued billing statements.

The NEPOOL Participants Committee states that copies of this filing were sent to the NEPOOL Participants, non-Participant Transmission Customers, and the New England state governors and regulatory commissions.

Comment date: February 21, 2001, in accordance with Standard Paragraph E at the end of this notice.

13. Enron Power Marketing, Inc., Enron Energy Services, Inc., Enron Energy Marketing Corp.

[Docket No. ER01-1156-000]

Take notice that on February 1, 2001, Enron Power Marketing, Inc. (EPMI), Enron Energy Services, Inc. (EES), and Enron Energy Marketing Corp. (EEMC), tendered for filing Notices of Termination and Request for Waiver of the 60-day Notice Requirement with the Federal Energy Regulatory Commission with respect to their respective agreements with the California Power Exchange Corporation (PX). EPMI, EES and EEMC request waiver of the 60-day notice requirement to permit an effective date of February 1, 2001, consistent with the PX's FERC Electric Tariff. EPMI also tendered for filing on February 2, 2001 revisions to the Notices of Termination.

The parties state that copies of this filing were served upon the PX.

Comment date: February 22, 2001, in accordance with Standard Paragraph E at the end of this notice.

14. Graham County Electric Cooperative, Inc.

[Docket No. ER01-1157-000]

Take notice that on February 2, 2001, Graham Electric Cooperative, Inc. (GCEC), Drawer B, Pima, Arizona 85543 tendered for filing as GCEC Rate Schedule FERC No. 4, Firm Power Wheeling Agreement Between Graham County Electric Cooperative, Inc. and the Town of Thatcher. GCEC has also provided a Notice of Cancellation to the Commission of GCEC Rate Schedules FERC Nos. 2 and 3. GCEC requests waiver of the Commission's 60-day notice requirement and requests an effective date of December 31, 2000.

GCEC requests waiver of the Commission's 60-day notice requirement and requests an effective date of January 1, 2001.

Copies of this filing were served upon the Town of Thatcher, Arizona Electric Power Cooperative, Inc., and the Arizona Corporation Commission.

Comment date: February 22, 2001, in accordance with Standard Paragraph E at the end of this notice.

15. Atlantic City Electric Company and Delmarva Power & Light Company

[Docket No. ER01-1158-000]

Take notice that on February 1, 2001, Conectiv, on behalf of its subsidiaries Atlantic City Electric Company (Atlantic) and Delmarva Power & Light Company (Delmarva), requested waiver of the fuel reporting requirements for Atlantic and Delmarva under FERC Form No. 423, 18 CFR 141.61.

Conectiv requests that waiver of the Atlantic and Delmarva fuel reporting requirements become effective March 15, 2001.

Conectiv served this filing on the state commissions that regulate Atlantic and Delmarva and Delmarva's wholesale requirements customers.

Comment date: February 22, 2001, in accordance with Standard Paragraph E at the end of this notice.

16. MidAmerican Energy Company

[Docket No. ER01-1159-000]

Take notice that on February 2, 2001, MidAmerican Energy Company (MidAmerican), tendered for filing Purchases of Electricity from Non-QF Small Independent Power Producers, MidAmerican Rate Schedule FERC No. 10, under which MidAmerican may purchase energy or capacity and energy from small independent power producers meeting certain defined requirements.

Comment date: February 23, 2001, in accordance with Standard Paragraph E at the end of this notice.

17. Public Service Company of New Mexico

[Docket No. ER01-1160-000]

Take notice that on February 2, 2001, Public Service Company of New Mexico (PNM), tendered for filing an executed service agreement, for electric power and energy sales at negotiated rates under the terms of PNM's Power and Energy Sales Tariff, with the Colorado River Commission (dated January 30, 2001). PNM's filing is available for public inspection at its offices in Albuquerque, New Mexico.

Copies of the filing have been sent to the Colorado River Commission and to the New Mexico Public Regulation Commission.

Comment date: February 23, 2001, in accordance with Standard Paragraph E at the end of this notice.

18. Sonoma County, California

[Docket No. ER01-1161-000]

Take notice that on February 2, 2001, Sonoma County, California (County) petitioned the Commission for acceptance of County Rate Schedule FERC No. 1; the granting of certain blanket approvals, including the authority to sell electricity at market-based rates and the waiver of certain Commission Regulations.

The County intends to engage in wholesale electric power and energy purchases and sales as a marketer. County is not in the business of generating or transmitting electric power. The County is a political subdivision of the State of California and owns and operates a small amount of generation that it intends to use in the most cost-effective manner to benefit the citizens of the County.

Comment date: February 23, 2001, in accordance with Standard Paragraph E at the end of this notice.

19. Duke Power a division of Duke Energy Corporation

[Docket No. ER01-1162-000]

Take notice that on February 2, 2001, Duke Power (Duke), a division of Duke Energy Corporation, tendered for filing a Service Agreement with Merrill Lynch Capital Services, Inc., for power sales at market-based rates.

Duke requests that the proposed Service Agreement be permitted to become effective on October 30, 2000.

Duke states that this filing is in accordance with Part 35 of the Commission's Regulations and a copy has been served on the North Carolina Utilities Commission.

Comment date: February 23, 2001, in accordance with Standard Paragraph E at the end of this notice.

20. Automated Power Exchange, Inc.

[Docket No. ER01-1163-000]

Take notice that on February 2, 2001, Automated Power Exchange, Inc., tendered for filing a revision to the rate schedule under which APX will offer power exchange services in the APX PJM Market.

Comment date: February 23, 2001, in accordance with Standard Paragraph E at the end of this notice.

21. Southern Company Services, Inc.

[Docket No. ER01-1164-000]

Take notice that on February 2, 2001, Southern Company Services, Inc., (SCS), by and on behalf of Alabama Power Company, Georgia Power Company, Mississippi Power Company, Gulf Power Company and Savannah Electric and Power Company, tendered for filing letter of amendments to unit power sales agreements with Florida Power and Light Company, Florida Power Corporation and Jacksonville Electric Authority, respectfully. The purpose of the letter amendments are to recognize certain accounting adjustments involving FERC Account 154, as it relates to charges under the referenced unit power sales agreements.

Comment date: February 23, 2001, in accordance with Standard Paragraph E at the end of this notice.

22. Boston Edison Company

[Docket No. ER01-1165-000]

Take notice that on February 2, 2001, Boston Edison Company (Boston Edison), tendered for filing a non-firm point-to-point transmission service agreement between Boston Edison and NRG Power Marketing, Inc., (NRG). Boston Edison states that the service agreement sets out the transmission arrangements under which Boston Edison will provide local non-firm point-to-point transmission service to NRG under Boston Edison's open access transmission tariff accepted for filing in Docket No. ER00-2065-000.

Boston Edison requests waiver of the Commission's thirty (30) day notice requirement in order to allow the service agreement to become effective on January 1, 2001.

Comment date: February 23, 2001, in accordance with Standard Paragraph E at the end of this notice.

23. Enron Sandhill Limited Partnership

[Docket No. ER01-1166-000]

Take notice that on February 2, 2001, Enron Sandhill Limited Partnership (ESLP), tendered for filing an application for waivers and blanket approvals under various regulations of the Commission and for an order accepting ESLP's Electric Rate Schedule FERC No. 1 and Code of Conduct to become effective on April 3, 2001.

ESLP submits its Rate Schedule FERC No. 1 (Rate Schedule), under which ESLP may make sales of electrical capacity and energy to wholesale customers at market-based rates. The proposed Rate Schedule provides the terms and conditions pursuant to which ESLP will sell electric energy at market-based rates to be mutually agreed to with the purchasing party. ESLP's proposed Rate Schedule also permits it to reassign transmission capacity.

Comment date: February 23, 2001, in accordance with Standard Paragraph E at the end of this notice.

24. Portland General Electric Company

[Docket No. ER01-1167-000]

Take notice that on February 2, 2001, Portland General Electric Company (PGEC), tendered for filing Notice of Termination and Request for Waiver of the 60-day Notice Requirement with the Federal Energy Regulatory Commission with respect to its Participation Agreement and Meter Services Agreement with the California Power Exchange Corporation (CalPX).

PGEC requests waiver of the 60-day notice requirement to permit an effective date of February 1, 2001 or such other date as the Commission permits this termination to become effective, consistent with Section 18.3 of the CalPX's FERC Electric Tariff.

PGEC states that copies of this filing were served upon the CalPX.

Comment date: February 23, 2001, in accordance with Standard Paragraph E at the end of this notice.

25. Niagara Mohawk Power Corporation

[Docket No. ER01-1168-000]

Take notice that on February 2, 2001, Niagara Mohawk Power Corporation tendered for filing an Interconnection Agreement between Niagara Mohawk Power Corporation and United States Gypsum Company, dated as of January 24, 2001.

Niagara Mohawk Power Corporation requests an Interconnection Agreement effective date of January 24, 2001. To the extent necessary, Niagara Mohawk requests waiver of the Commission requirement that a rate schedule be filed not less than 60 days or more than 120 days from its effective date.

Comment date: February 23, 2001, in accordance with Standard Paragraph E at the end of this notice.

26. Nicor Energy, L.L.C.

[Docket No. ER01-1169-000]

Take notice that on February 2, 2001, Nicor Energy, L.L.C. (Nicor LLC), tendered for filing pursuant to Rule 205, 18 CFR 385.205, a petition for waivers and blanket approvals under various regulations of the Commission and for an order accepting its Rate Schedule FERC No. 1.

Nicor LLC intends to sell electric power at wholesale at rates, terms, and conditions to be mutually agreed to with the purchasing party. Nicor LLC's tariff provides for the sale of electric energy and capacity at agreed prices.

Comment date: February 23, 2001, in accordance with Standard Paragraph E at the end of this notice.

27. American Electric Power Service Corporation

[Docket No. ER01-1172-000]

Take notice that on February 1, 2001, American Electric Power Service Corporation (AEP), tendered for filing, on behalf of Kentucky Power Company, a letter agreement with EnviroPower, Inc.

AEP requests an effective date of April 1, 2001.

Copies of AEP's filing has been served upon the Kentucky Public Service Commission.

Comment date: February 22, 2001, in accordance with Standard Paragraph E at the end of this notice.

28. Automated Power Exchange, Inc.

[Docket No. ER01-1176-000]

Take notice that on February 2, 2001, Automated Power Exchange, Inc., tendered for filing a revision to the rate schedule under which APX will offer power exchange services in the APX New England Market.

Comment date: February 23, 2001, in accordance with Standard Paragraph E at the end of this notice.

29. Automated Power Exchange, Inc.

[Docket No. ER01-1177-000]

Take notice that on February 2, 2001, Automated Power Exchange, Inc., tendered for filing a revision to the rate schedule under which APX will offer power exchange services in the APX New York Market.

Comment date: February 23, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 01-3685 Filed 2-13-01; 8:45 am]

BILLING CODE 6717-01-P